ENVIRONMENTAL PROTECTION AGENCY

[EPA-HQ-OPPT-2015-0504; FRL-9936-40]

Certain New Chemicals; Receipt and Status Information for September 2015

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from September 1, 2015 to September 30, 2015.

DATES: Comments identified by the specific case number provided in this document, must be received on or before December 14, 2015.

ADDRESSES: Submit your comments, identified by docket identification (ID) number EPA-HQ-OPPT-2015-0504, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, IMD 7407M, Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave. Rochester, NY 14620; telephone number: (202) 554-1404; email address: TSCA-Hotline@epa.gov.

SUPPLEMENTARY INFORMATION:

I. General Information

A. Does this action apply to me?

This action is directed to the public in general. As such, the Agency has not attempted to describe the specific entities that this action may apply. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

This document provides receipt and status reports, which cover the period from September 1, 2015 to September 30, 2015, and consists of the PMNs and TMEs both pending and/or expired, and the NOCs to manufacture a new chemical that the Agency has received under TSCA section 5 during this time period.

III. What is the agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 55 PMNs received by EPA during this period, Table 1 provides the following information (to the extent that such information is not claimed as CBI): The EPA case number assigned to the PMN; The date the PMN was received by EPA; the projected end date for EPA's review of the PMN; the submitting manufacturer/importer; the potential uses identified by the manufacturer/importer in the PMN; and the chemical identity.

Table 1—PMNs Received From September 1, 2015 to September 30, 2015
Case No. | Date received | Projected end date for EPA review | Manufacturer/ importer | Use(s) | Chemical identity
P-15-0703 | 8/26/2015 | 11/24/2015 | CBI | (G) Additive in toner | (G) Alkyl alkenoic acid, substituted alkyl ester, polymer with alkyl alkenoate and substituted alkyl alkenoate compd. with alkyl alkyl carbomonocyclic salt.
P-15-0713 | 9/1/2015 | 11/30/2015 | CBI | (G) Contained use | (G) Cellulose, polymer with substituted oxirane, 2-(diethylamino) ethyl ether.
P-15-0714 | 9/1/2015 | 11/30/2015 | Kemira | (G) Paper strength additive | (G) Modified polyacrylamide.
P-15-0715 | 9/3/2015 | 12/2/2015 | CBI | (G) Additive for inks | (G) Oxirane, 2-ethyl-, homopolymer, 3-(5-carboxy-1,3-dihydro-,1,3-dioxo-2H-isoindol-2-yl) alkyl ethers.
P-15-0717 | 9/3/2015 | 12/2/2015 | CBI | (G) Adhesive additive | (G) Triethoxysilylalkoxy polyalkylene glycol urethane.
P-15-0718 | 9/3/2015 | 12/2/2015 | CBI | (G) Adhesive additive | (G) Triethoxysilylalkoxy polyalkylene glycol urethane.
P-15-0719 | 9/3/2015 | 12/2/2015 | CBI | (G) Flame retardant synergist | (S) Poly (1,4-diisopropyl benzene).
P-15-0720 | 9/4/2015 | 12/3/2015 | CBI | (S) Polyurethane prepolymer | (G) Aliphatic polyester polyol.
P-15-0721 | 9/4/2015 | 12/3/2015 | CBI | (S) Polyurethane prepolymer | (G) Aliphatic polyester polyol.
P-15-0722 | 9/4/2015 | 12/3/2015 | CBI | (S) Polyurethane prepolymer | (G) Aliphatic polyester polyol.
P-15-0723 | 9/4/2015 | 12/3/2015 | CBI | (S) Polyurethane prepolymer | (G) Aliphatic polyester polyol.
P-15-0724 | 9/4/2015 | 12/3/2015 | CBI | (S) Polyurethane prepolymer | (G) Aliphatic polyester polyol.
P-15-0725 | 9/4/2015 | 12/3/2015 | CBI | (S) Polyurethane prepolymer | (G) Aliphatic polyester polyol.
P-15-0726 | 9/4/2015 | 12/3/2015 | CBI | (S) Co-polymer for use in adhesives and sealant formulations | (G) Triethoxysilylalkoxy polyalkylene glycol.
P-15-0728 | 9/9/2015 | 12/8/2015 | TAKASAGO | (S) Fragrance in household products | (S) Benzenemethanol, 3-ethoxy-4-hydroxy-.
P-15-0728 | 9/9/2015 | 12/8/2015 | TAKASAGO | (S) Fragrance in a fine fragrance | (S) Benzenemethanol, 3-ethoxy-4-hydroxy-.
P-15-0728 | 9/9/2015 | 12/8/2015 | TAKASAGO | (S) Fragrance in consumer products | (S) Benzenemethanol, 3-ethoxy-4-hydroxy-.
P-15-0728 | 9/9/2015 | 12/8/2015 | TAKASAGO | (S) Fragrance in other products | (S) Benzenemethanol, 3-ethoxy-4-hydroxy-.
P-15-0730 | 9/10/2015 | 12/9/2015 | CBI | (G) Additive for paper and paperboard | (G) Amphoteric polyacrylamide.
P-15-0731 | 9/10/2015 | 12/9/2015 | CBI | (G) Additive for paper and paperboard | (G) Amphoteric polyacrylamide.
P-15-0733 | 9/10/2015 | 12/9/2015 | Cadence Chemical Corporation | (S) Coating for glass | (G) Alkane carboxylic acid, hydroxy, hydroxyalkyl-alkyl, polymer with .alpha.-hydro-.omega.-hydroxypoly(oxy-1,2-ethanediyl) ether with alkyl-(hydroxyalkyl)-alkanediol (X:1), .alpha.-hydro-.omega.-hydroxypoly[oxy(alkyl-alkyldiyl)] and alkylenebis [isocyanatoalkane],-blocked.
P-15-0734 | 9/11/2015 | 12/10/2015 | CBI | (S) Wastewater Heavy Metals Removal | (G) Polymeric Sulfide.
P-15-0735 | 9/15/2015 | 12/14/2015 | Cray Valley USA, LLC | (S) Adhesive Formulation | (S) Hydrocarbons, C5-rich, polymers with (6E)-7, 11-dimethyl-3-methylene-1,6,10-dodecatriene, 2-methylbutene and methylstyrene.
P-15-0735 | 9/15/2015 | 12/14/2015 | Cray Valley USA, LLC | (S) Rubber Formulation | (S) Hydrocarbons, C5-rich, polymers with (6E)-7, 11-dimethyl-3-methylene-1,6,10-dodecatriene, 2-methylbutene and methylstyrene.
P-15-0736 | 9/18/2015 | 12/17/2015 | CBI | (S) Industrial coating resin for wood substances | (G) Castor oil, polymer with substituted alkanoic acid, substituted carbomonocycle, dialkyl substituted alkanediol and TDI, substituted alkanone-blocked.
P-15-0737 | 9/16/2015 | 12/15/2015 | CBI | (G) Intermediate | (G) Ammonium salts of phosphate methacrylate.
P-15-0738 | 9/17/2015 | 12/16/2015 | CBI | (S) Injection molding additive to improve the physical properties of plastic parts | (G) Polysiloxane-polycarbonate copolymer.
P-15-0739 | 9/17/2015 | 12/16/2015 | CBI | (S) Component of Flexible Foam | (G) Epoxy Terminated Polymer.
P-15-0740 | 9/17/2015 | 12/16/2015 | Allnex USA, Inc | (S) Digital printing applications | (G) Disubstituted alkanedioic acid, polymer with substituted carbomonocycle, dialkyl carbonate, alkanediol and (alkylimino) bis [alkanol], acetate (salt).
P-15-0741 | 9/17/2015 | 12/16/2015 | CBI | (S) Mixture of modified urethane polymers used as a deflocculating and dispersing additive in industrial coatings | (G) Mixture of Modified urethane polymers.
P-15-0742 | 9/17/2015 | 12/16/2015 | CBI | (G) Component for tire | (G) Modified Copolymer of Buta-1,3-diene and Styrene.
P-15-0743 | 9/17/2015 | 12/16/2015 | Eden Innovations | (G) The liquid solution is an admixture that is used by the concrete industry to enhance product performance. It is mainly used to increase the concrete's abrasion resistance, and increase the compressive and split tensile strengths; see internal comments | (G) Nano particle liquid concrete admixture.
P-15-0744 | 9/18/2015 | 12/17/2015 | 3 M Company | (G) Construction material | (G) Naturally-occurring minerals, reaction products with boron sodium oxide (b4na2o7), hetero substituted alkyl acrylate polymer, kaolin and sodium silicate.
P-15-0745 | 9/18/2015 | 12/17/2015 | 3 M Company | (G) Construction material | (G) Naturally-occurring minerals, reaction products with boron sodium oxide (b4na2o7), hetero substituted alkyl acrylate polymer, kaolin and sodium silicate.
P-15-0746 | 9/18/2015 | 12/17/2015 | 3 M Company | (G) Construction material | (G) Naturally-occurring minerals, reaction products with boron sodium oxide (b4na2o7), hetero substituted alkyl acrylate polymer, kaolin and sodium silicate.
P-15-0747 | 9/18/2015 | 12/17/2015 | 3 M Company | (G) Construction material | (G) Naturally-occurring minerals, reaction products with boron sodium oxide (b4na2o7), hetero substituted alkyl acrylate polymer, kaolin and sodium silicate.
P-15-0748 | 9/18/2015 | 12/17/2015 | 3 M Company | (G) Construction material | (G) Naturally-occurring minerals, reaction products with hetero substituted alkyl acrylate polymer, kaolin and sodium silicate.
P-15-0749 | 9/18/2015 | 12/17/2015 | 3 M Company | (G) Construction material | (G) Naturally-occurring minerals, reaction products with hetero substituted alkyl acrylate polymer, kaolin and sodium silicate.
P-15-0750 | 9/18/2015 | 12/17/2015 | 3 M Company | (G) Construction material | (G) Naturally-occurring minerals, reaction products with hetero substituted alkyl acrylate polymer, kaolin and sodium silicate.
P-15-0751 | 9/18/2015 | 12/17/2015 | 3 M Company | (G) Construction material | (G) Naturally-occurring minerals, reaction products with hetero substituted alkyl acrylate polymer, kaolin and sodium silicate.
P-15-0752 | 9/22/2015 | 12/21/2015 | CBI | (G) Additive, open, non-dispersive use | (G) Polysiloxane, di-Me, epoxyfunctional.
P-15-0753 | 9/22/2015 | 12/21/2015 | CBI | (G) Additive, open, non-dispersive use | (G) Polyester amine adduct.
P-15-0754 | 9/22/2015 | 12/21/2015 | CBI | (G) Additive, open, non-dispersive use | (G) Polyester amine adduct.
P-15-0755 | 9/22/2015 | 12/21/2015 | CBI | (G) Additive, open, non-dispersive use | (G) Polyester amine adduct.
P-15-0759 | 9/24/2015 | 12/23/2015 | CBI | (G) Polyurethane prepolymer for use in cast polyurethane elastomer parts: Open, non-dispersive use | (G) Isocyanate-terminated urethane prepolymer.
P-15-0760 | 9/24/2015 | 12/23/2015 | CBI | (G) Polyurethane prepolymer for use in cast polyurethane elastomer parts: Open, non-dispersive use | (G) Isocyanate-terminated urethane prepolymer.
P-15-0761 | 9/24/2015 | 12/23/2015 | CBI | (G) Polyurethane prepolymer for use in cast polyurethane elastomer parts: Open, non-dispersive use | (G) Isocyanate-terminated polyester-based urethane prepolymer.
P-15-0762 | 9/24/2015 | 12/23/2015 | CBI | (G) Polyurethane prepolymer for use in cast polyurethane elastomer parts: Open, non-dispersive use | (G) Isocyanate-terminated polyester-based urethane prepolymer.
P-15-0763 | 9/24/2015 | 12/23/2015 | CBI | (G) Polyurethane prepolymer for use in cast polyurethane elastomer parts: Open, non-dispersive use | (G) Isocyanate-terminated polyester-based urethane prepolymer.
P-15-0764 | 9/24/2015 | 12/23/2015 | CBI | (G) Polyurethane prepolymer for use in cast polyurethane elastomer parts: Open, non-dispersive use | (G) Isocyanate-terminated polybutadiene-based urethane polymer.
P-15-0765 | 9/25/2015 | 12/24/2015 | ANGUS Chemical Company | (G) Chemical Absorbant | (G) Tertiary Amino Polyol.
P-15-0766 | 9/28/2015 | 12/27/2015 | Reichhold | (S) Resin for flame retardant polyesters | (G) Halogenated epoxy polymer with alkeneoic acid.
P-15-0767 | 9/29/2015 | 12/28/2015 | Reichhold | (S) Resin used for flame retardant polyester applications | (G) Halogenated bisphenol a, polymer with epoxy resin and phenolic epoxy, alkeneoic acids.
P-15-0768 | 9/29/2015 | 12/28/2015 | Allnex USA, Inc | (S) Crosslinker in the construction of an in-site encapsulation product | (G) Alkanedial, polymer with alkyleneurea and alkyl-alkanediol.
P-15-0769 | 9/30/2015 | 12/29/2015 | LUNA, Inc | (S) Component of protective coating | (G) Polyurethane Silane.

For the one TME received by EPA during this period, Table 2 provides the following information (to the extent that such information is not claimed as CBI): The EPA case number assigned to the TME, the date the TME was received by EPA, the projected end date for EPA's review of the TME, the submitting manufacturer/importer, the potential uses identified by the manufacturer/importer in the TME, and the chemical identity.

Table 2—TME Received From September 1, 2015 to September 30, 2015
Case No. | Date received | Projected end date for EPA review | Manufacturer/ importer | Use | Chemical identity
T-15-0017 | 9/21/2015 | 11/5/2015 | NON-CBI | Resin for coating formulation | (S) EHTM.

For the 25 NOCs received by EPA during this period, Table 3 provides the following information (to the extent that such information is not claimed as CBI): The EPA case number assigned to the NOC; the date the NOC was received by EPA; the projected date of commencement provided by the submitter in the NOC; and the chemical identity.

Table 3—NOCs Received From September 1, 2015 to September 30, 2015
Case No. | Received date | Projected date of commencement | Chemical identity
J-15-0017 | 9/11/2015 | 8/14/2015 | (G) Modified organism.
P-12-0078 | 9/15/2015 | 8/26/2015 | (S) 1-Octanesulfonic acid, 3,3,4,4,5,5,6,6,7,7,8,8,8-tridecafluoro-, barium salt (2:1).
P-12-0437 | 9/3/2015 | 8/13/2015 | (S) Quaternary ammonium compounds, bis (hydrogenated tallow alkyl) dimethyl, salts with tannins.
P-13-0246 | 9/9/2015 | 8/12/2015 | (G) Cobalt based polymer with fatty acids, and polyol.
P-13-0309 | 9/24/2015 | 9/15/2015 | (S) Alcohols, c9-11-branched, ethoxylated propoxylated.
P-14-0142 | 9/24/2015 | 9/22/2015 | (G) Ethoxylated Resin.
P-14-0605 | 9/10/2015 | 9/10/2015 | (G) Substituted cyclosiloxane.
P-14-0738 | 9/3/2015 | 8/31/2015 | (G) Polyalkylene ether alkyl phosphate polyurethane prepolymer.
P-14-0809 | 9/29/2015 | 9/2/2015 | (G) Depolymerized waste plastics.
P-15-0036 | 9/1/2015 | 8/28/2015 | (S) 2-Pyridinecarboxylic acid, 4,5,6-trichloro-.
P-15-0152 | 9/24/2015 | 9/2/2015 | (G) Urethane acrylate.
P-15-0308 | 9/14/2015 | 8/31/2015 | (G) Dicarboxylic acid, cycloaliphatic anhydride polymer with alkyldiol, hydroxy-[(oxoalkyl)oxy]alkyl ester.
P-15-0311 | 9/18/2015 | 9/3/2015 | (G) Triarylsulfonium salt with haloalkyl phosphate.
P-15-0364 | 9/23/2015 | 9/13/2015 | (G) Reaction mixture of copper, [29h,31h-phthalocyaninato(2-)-.kappa.n29,.kappa.n30,.kappa.n31,.kappa.n32]-, (sp-4-1)- and metal, [substituted 29h,31h-phthalocyanine-.kappa.n29,.kappa.n30,.kappa.n31,lkappa.n32]-.
P-15-0365 | 9/2/2015 | 8/21/2015 | (G) Alkyl alkenoic acid polymers with alkyl acrylate, alkyl methacrylate, polyether methacrylate alkyl ethers and substituted heteromonocycle, compds. with substituted alkyl alkanol.
P-15-0390 | 9/10/2015 | 9/3/2015 | (G) Substituted carbopolycyclic dicarboxylic acid dialkyl ester, polymer with dialkyl carbopolycyclic ester, alkanediol and carbopolycyclic bis (substituted carbomonocycle).
P-15-0396 | 9/24/2015 | 9/4/2015 | (G) Alkylmethacrylate, polymer with alkenylbenzene, branched alkylmethacrylate, hydroxyalkylmethacrylate and acrylic acid, t-butyl alkaneperoxoic acid ester-initiated.
P-15-0410 | 9/18/2015 | 8/18/2015 | (S) 1,3-Butadiene, homopolymer, hydrogenated, 2-hydroxyethyl-terminated, bis[n-[4-[(4-isocyanatophenyl)methyl]phenyl]carbamates].
P-15-0411 | 9/7/2015 | 9/3/2015 | (G) Fatty acid esters with polyols polyalkyl ethers.
P-15-0427 | 9/24/2015 | 8/9/2015 | (G) Substituted alkylene carbomonocycle, homopolymer, substituted polyol and mono alkyl ether-blocked polyol.
P-15-0456 | 9/4/2015 | 8/21/2015 | (G) Amine functional epoxy, organic acid salt.
P-15-0466 | 9/16/2015 | 9/11/2015 | (G) Acrylic acid polymer.
P-15-0467 | 9/18/2015 | 9/14/2015 | (S) 2-Oxepanone, polymer with 5-amino-1,3,3-trimethylcyclohexanemethanamine, 1,2-ethanediol and 5-isocyanato-1-(isocyanatomethyl)-1,3,3-trimethylcyclohexane.
P-15-0495 | 9/9/2015 | 8/30/2015 | (G) Aromatic anhydride, polymer with alkane diol and alkane triol, 2-propenoate.
P-15-0497 | 9/9/2015 | 8/30/2015 | (G) Bisphenol an epoxy polymer with aromatic anhydride, mixed caprolactone acrylate and hydroxyethyl acrylate esters.

Authority: 15 U.S.C. 2601 et seq.

Dated: November 5, 2015.
Pamela Myrick,
Acting Director, Information Management Division, Office of Pollution Prevention and Toxics.

[FR Doc. 2015-28842 Filed 11-12-15; 8:45 am]

BILLING CODE 6560-50-P